DEPARTMENT OF COMMERCE

National Oceanic and Atmospheric Administration

50 CFR Part 622

RIN 0648-BL19

Fisheries of the Caribbean, Gulf of Mexico, and South Atlantic; Coastal Migratory Pelagics Resources in the Gulf of Mexico and Atlantic Region; Amendment 32

AGENCY: National Marine Fisheries Service (NMFS), National Oceanic and Atmospheric Administration (NOAA), Commerce.

ACTION: Notice of availability (NOA); request for comments.

SUMMARY: The Gulf of Mexico Fishery Management Council (Gulf Council) and the South Atlantic Fishery Management Council (South Atlantic Council) have jointly submitted Amendment 32 to the Fishery Management Plan (FMP) for the Coastal Migratory Pelagic (CMP) Resources of the Gulf of Mexico and Atlantic Region (CMP FMP) for review, approval, and implementation by NMFS. If approved by the Secretary of Commerce, Amendment 32 would revise the Gulf of Mexico (Gulf) migratory group of cobia (Gulf group cobia) zone apportionment, catch limits, possession limit and minimum size limit, establish a Gulf group cobia commercial trip limit and recreational vessel limit, and revise the CMP FMP framework procedures. The purpose of Amendment 32 is to end overfishing of Gulf group cobia and to update catch limits to be consistent with the best scientific information available, and revise management measures to help constrain landings to the catch limits.

DATES: Written comments on Amendment 32 must be received on or before September 6, 2022.

ADDRESSES: You may submit comments on Amendment 32 identified by “NOAA-NMFS-2022-0030” by either of the following methods:

• Electronic Submission: Submit all electronic public comments via the Federal e-Rulemaking Portal. Go to https://www.regulations.gov and enter “NOAA-NMFS-2022-0030”, in the Search box. Click the “Comment” icon, complete the required fields, and enter or attach your comments.

• Mail: Submit all written comments to Kelli O'Donnell, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 32, which includes a fishery impact statement and a regulatory impact review, may be obtained from the Southeast Regional Office website at https://www.fisheries.noaa.gov/action/amendment-32-management-gulf-migratory-group-cobia.

FOR FURTHER INFORMATION CONTACT: Kelli O'Donnell, telephone: 727-824-5305, or email: Kelli.ODonnell@noaa.gov.

SUPPLEMENTARY INFORMATION: The Magnuson-Stevens Fishery Conservation and Management Act (Magnuson-Stevens Act) requires each regional fishery management council to submit any FMP or FMP amendment to NMFS for review and approval, partial approval, or disapproval. The Magnuson-Stevens Act also requires that NMFS, upon receiving an FMP or amendment, publish an announcement in the Federal Register notifying the public that the FMP or amendment is available for review and comment.

The FMP being revised by Amendment 32 was prepared by the Gulf Council and the South Atlantic Council (Councils), and Amendment 32, if approved, would be implemented by NMFS through regulations at 50 CFR part 622 under the authority of the Magnuson-Stevens Act.

Background

Under the CMP FMP, the Councils jointly manage fishing for Gulf group cobia in Federal waters from Texas to the Florida/Georgia boundary. The Gulf group cobia acceptable biological catch (ABC) is apportioned between the Gulf zone, which spans from the Councils' jurisdictional boundary west of the Dry Tortugas, Florida, to the Texas/Mexico border, and the Florida east coast (FLEC) zone, which spans from the Florida/Georgia border to the Councils' jurisdictional boundary west of the Dry Tortugas, Florida. Under the current framework procedures in the CMP FMP, the Gulf Council is responsible for specifying management measures for Gulf group cobia, except that the South Atlantic Council is responsible for specifying trip limits, closed seasons or areas, and gear restrictions in the FLEC zone.

The current overfishing limit (OFL) and ABC are 2,660,000 lb (1,206,556 kg) and 2,600,000 lb (1,179,340 kg), respectively. The current stock annual catch limit (ACL) is equal to the ABC. These catch limits were established in 2015 in Amendment 20B to the CMP FMP (80 FR 4216; January 27, 2015), and are based on the recommendations of the Councils' Scientific and Statistical Committees (SSCs) from the Southeast Data Assessment and Review (SEDAR) 28 stock assessment. The recreational landings estimates used in SEDAR 28 were generated using the Marine Recreational Information Program's (MRIP) Coastal Household Telephone Survey (CHTS).

In Amendment 20B, the Councils apportioned the Gulf group cobia stock ABC between the Gulf zone (64 percent) and FLEC zone (36 percent), based on average landings from 1998-2012 across both zones, with the ACL for each zone being set equal to the apportioned ABC. Recreational landings estimates during 1998-2012 were generated using MRIP-CHTS. In 2018, MRIP replaced the fishing effort estimates from the CHTS with those from the Fishing Effort Survey (FES). Total recreational fishing effort estimates generated from MRIP-FES are generally higher than MRIP-CHTS estimates, and those higher effort estimates necessarily increase the recreational landings estimates. This difference in the estimates is because MRIP-FES is designed to more accurately measure fishing activity. Had MRIP-FES data been available when the current Gulf grouper cobia OFL and ABC were established, the OFL would have been 4,870,000 lb (2,208,995 kg) and the ABC would have been 4,500,000 (2,041,166 kg).

In 2020, the SEDAR 28 Update indicated that Gulf group cobia was undergoing overfishing with the biomass at reduced levels, which puts the stock at risk of becoming overfished. The SEDAR 28 Update included updated recreational landings estimates based on MRIP FES. In July 2020, the Councils' SSCs reviewed the SEDAR 28 Update and recommended new OFLs and ABCs that would end overfishing of Gulf group cobia and allow harvest to increase over time. The SSCs' recommendation for OFL is 3,210,000 lb (1,456,032 kg) for 2022, and 3,310,000 lb (1,501,391 kg) for 2023 and subsequent years. The SSCs' recommendation for ABC is 2,600,000 lb (1,179,340 kg) for 2022, and 2,760,000 lb (1,251,915 kg) for 2023 and subsequent years. These recommendations represent a reduction in the allowable harvest when compared to the current OFL and ABC, as noted above.

The Gulf Council manages Gulf group cobia in the Gulf zone without sector allocations. The South Atlantic Council manages Gulf group cobia in the FLEC zone with sector allocations, allocating 8 percent of the ACL to the commercial sector and 92 percent of the ACL to the recreational sector. This allocation was originally established in 2012 in Amendment 18 to the CMP FMP, when two migratory groups of cobia were managed under the CMP FMP: Gulf group cobia and Atlantic migratory group cobia (Atlantic group cobia) (76 FR 82058; December 29, 2011). The boundary between these two migratory groups was set at the Councils' jurisdictional boundary west of the Dry Tortugas. However, the SEDAR 28 (2013) assessment determined that the biological boundary between the Gulf and Atlantic migratory groups of cobia was the Florida/Georgia border. To account for this change, in Amendment 20B, the Councils created the Gulf zone and the FLEC zone, allocating a portion of the Gulf group cobia ABC to each zone. In Amendment 20B, the Councils chose to keep the same sector allocations for the FLEC zone that were established for Atlantic group cobia in Amendment 18 to the CMP FMP. This allocation for the FLEC zone, established in Amendment 18 in 2011, was based on a formula that balanced historical catches (2000-2008) with more recent landings (2006-2008). Subsequently, the Councils removed Atlantic group cobia from the CMP FMP in 2018 through Amendment 31, and it is now managed by the Atlantic States Marine Fisheries Commission (84 FR 4733; February 19, 2019).

In Amendment 18, the Councils established annual catch targets (ACTs) for both Gulf group cobia and the recreational harvest of Atlantic group cobia. The Councils kept the same formulas for establishing these ACTs in Amendment 20B when the Gulf group cobia ABC was split between the Gulf zone and the FLEC zone. The current stock ACT in the Gulf zone is 10 percent below the Gulf zone ACL. The ACT was selected to provide a buffer to the ACL, but result in a catch level that was no less than historic total catch from 2000-2009. The current recreational ACT in the FLEC zone is 17 percent below the FLEC zone ACL and was calculated using the following formula: the ACL multiplied by 1 minus the proportional standard error (PSE) of the recreational landings estimates, or 0.5, whichever was greater.

The Councils established the current commercial and recreational possession limit for Gulf group cobia of two fish per person per day through Amendment 5 to the CMP FMP (55 FR 29370; July 19, 1990). This possession limit was extended to the FLEC zone when the Gulf group cobia boundary was changed. There currently is no commercial or recreational trip limit for Gulf group cobia in either zone.

The Councils first established a minimum size limit for cobia in the original CMP FMP (48 FR 5270; February 4, 1983) and that minimum size limit applied to both the Gulf zone and the FLEC zone when they were created in Amendment 20B. In 2020, the Gulf Council revised the Gulf group cobia minimum size limit in the Gulf zone to 36 inches (91.4 cm) fork length, through Framework Amendment 7 to the CMP FMP (85 FR 10328; February 24, 2020). The Gulf Council took this action based on concerns from constituents that an observed decrease in cobia landings may indicate an unknown issue with the stock. The Gulf Council decided to take a precautionary approach by increasing the commercial and recreational minimum size limits while the SEDAR 28 Update assessment (2020) was completed. The South Atlantic Council did not change the minimum size limit in the FLEC zone, deciding to review the SEDAR 28 Update assessment before making any further management changes.

Actions Contained in Amendment 32

For Gulf group cobia, Amendment 32 would revise the OFL, ABC, ABC apportionment, stock and sector ACLs, the Gulf zone stock ACT (quota), and the commercial possession limits; establish a commercial trip limit; recreational bag and vessel limits; and revise commercial and recreational size limits. Amendment 32 would also clarify the CMP sale and purchase provisions for federally permitted dealers.

OFL and ABC

As previously explained, the current OFL and ABC for Gulf group cobia of 2,660,000 lb (1,206,556 kg) and 2,600,000 lb (1,179,340 kg), are based on the Councils' SSCs' recommendations from SEDAR 28, which used recreational landings estimates from MRIP-CHTS. Amendment 32 would adopt the new increasing OFLs and ABCs based on the SSCs' recommendations from the results of the SEDAR 28 Update, which used MRIP-FES recreational landings estimates. The new OFLs would be 3,210,000 lb (1,456,032 kg) for 2022, and 3,310,000 lb (1,501,391 kg) for 2023 and subsequent years. The new ABCs would be 2,600,000 lb (1,179,340 kg) for 2022, and 2,760,000 lb (1,251,915 kg) for 2023 and subsequent years.

ABC Apportionment

The current ABC apportionment for Gulf group cobia is 64 percent for the Gulf zone and 36 percent for the FLEC zone, respectively. Amendment 32 would revise the Gulf group cobia ABC apportionment between the Gulf and FLEC zones by using the average landings from 1998-2012 across both zones using MRIP-FES landings for this time series. This results in a new apportionment of the Gulf group cobia stock ABC of 63 percent for the Gulf zone and 37 percent for the FLEC zone. Using the same time series to calculate the apportionment, but updating it by using MRIP-FES, addresses the higher recreational landings that have occurred in the FLEC zone compared to the Gulf zone.

ACLs

Amendment 32 would revise the Gulf zone apportioned ACL to 1,638,000 lb (742,984 kg) for 2022, and 1,738,000 lb (788,343 kg) for 2023 and subsequent years. The proposed revised FLEC zone apportioned ACL would be 962,000 lb (436,356 kg) for 2022, and 1,021,200 lb (463,209 kg) for 2023 and subsequent years.

ACLs and Sector Allocations

The current stock ACL for Gulf group cobia is equal to the ABC of 2,600,000 lb (1,179,340 kg) and is based on the results of SEDAR 28, which used data from MRIP-CHTS. Amendment 32 would retain the stock ACL for Gulf group cobia of 2,600,000 lb (1,179,340 kg) for 2022, and increase the stock ACL to 2,760,000 lb (1,251,915 kg) for 2023 and subsequent years, which is also equal to the ABCs recommended by the Councils' SSCs. The SSCs' recommendations and the Councils' determinations are based on the results of the SEDAR 28 Update, which used data from MRIP-FES. Thus, the proposed ACLs using MRIP-FES data actually represent a decrease in the allowable harvest of Gulf group cobia, as discussed above. For example, had the current stock ACL been derived using MRIP-FES data, the current stock ACL would have been 4,500,000 lb (2,041,166 kg).

The current zone apportionment of the ABC (equal to the stock ACL) is 64 percent to the Gulf zone and 36 percent to the FLEC zone, which results in a Gulf zone ACL of 1,660,000 lb (752,963 kg) and a FLEC zone ACL of 930,000 lb (421,841 kg). Amendment 32 would revise the zone apportionment to 63 percent to the Gulf zone and 37 percent to the FLEC zone. This would result in a Gulf zone ACL of 1,638,000 lb (742,984 kg) for 2022, and 1,738,000 lb (788,343 kg) for 2023 and subsequent years. The proposed FLEC zone ACL would be 962,000 lb (436,356 kg) for 2022, and 1,021,200 lb (463,209 kg) for 2023 and subsequent years.

Amendment 32 would maintain the current commercial and recreational allocation in the FLEC zone as 8 percent and 92 percent, respectively. The current ACLs for Gulf group cobia in the FLEC zone are 70,000 lb (31,751 kg) for the commercial sector (expressed as a commercial quota), and 860,000 lb (390,089 kg) for the recreational sector. The proposed commercial ACLs (quotas) are 76,960 lb (34,908 kg) for 2022, and 81,696 lb (37,057 kg) for 2023 and subsequent years. The proposed recreational ACLs are 885,040 lb (401,447 kg) for 2022, and 939,504 lb (426,152 kg) for 2023 and subsequent years.

ACTs

Amendment 32 would update the calculation for determining the ACTs using the Gulf Council's ACL/ACT Control Rule. Under this control rule, the calculated ACTs for the Gulf zone and for the recreational sector in the FLEC zone would be 10 percent less than the respective zone ACLs. To calculate the ACT, the control rule uses the PSEs for 4 years of landings data (2016-2019), the number of times the catch limit has been exceeded, the precision of recreational landings based on the PSE, the precision of commercial landings, inseason accountability measures in place, and the stock status.

The current stock ACT (quota) for Gulf group cobia in the Gulf zone is 1,500,000 lb (680,389 kg). Consistent with the Gulf Council's ACL/ACT Control Rule, Amendment 32 would revise the stock ACT in the Gulf zone to be 1,474,200 lb (668,686 kg) for 2022, and 1,564,920 lb (709,836 kg) for 2023 and subsequent years.

The current recreational ACT for Gulf group cobia in the FLEC zone is 710,000 lb (322,051 kg). Consistent with Gulf Council's ACL/ACT Control Rule, Amendment 32 would revise the recreational ACT in the FLEC zone to be 796,536 lb (361,303 kg) for 2022, and 845,554 lb (383,537 kg) for 2023 and subsequent years.

There is no commercial ACT for Gulf group cobia in the FLEC zone and the Councils did not establish a commercial ACT in Amendment 32. The Councils determined that a commercial ACT was not necessary because the commercial sector had not exceeded its ACL in the past and the projections in Amendment 32 indicated that commercial harvest would not exceed the proposed ACLs.

Possession Limit, Commercial Trip Limit, and Recreational Vessel Limit

The current possession limit for Gulf group cobia of two fish per person per day applies to commercial and recreational harvest in both zones. In Amendment 32, the Councils decided to reduce the Gulf group cobia possession limit to one fish per person. The Councils also decided to establish a commercial trip limit of two fish and a recreational vessel limit of two fish per trip. These changes would apply to harvest from both the Gulf zone and FLEC zone.

Analysis in Amendment 32 indicates that the majority of the commercial and recreational trips already harvest one or less cobia per person and per trip. Therefore, reducing the possession limit from 2 fish to 1 fish per person and creating a commercial trip limit and recreational vessel limit would only reduce harvest in the Gulf zone by about 1.0 percent for the commercial sector and 10 percent for the recreational sector. The harvest reduction in the FLEC zone would be greater, with an approximate 23 percent for the commercial sector and 29 percent for the recreational sector. However, the Councils decided that these changes were appropriate because they would result in some reduction in fishing mortality and would also aid with compliance and enforcement because the harvest limits in Federal waters would be consistent with those established by the state of Florida for harvest of cobia in Gulf state waters, which is one fish per person or two per vessel, whichever is less. The possession and trip limits in Florida state waters adjacent to the FLEC zone are currently one per person or six fish per vessel, whichever is less, but effective July, 1, 2022, these state regulations change and will be consistent with the changes proposed in this rule. See https://content.govdelivery.com/accounts/FLFFWCC/bulletins/316530e.

The analysis in Amendment 32 indicates that commercial landings will not exceed the proposed commercial harvest limits in the FLEC zone, and that the combined commercial and recreational harvest would not exceed the proposed 2022 and 2023 total ACLs in the Gulf zone, regardless of the proposed commercial trip limits. This analysis also indicates that even with the proposed changes to the possession limit, recreational harvest in the FLEC zone is projected to exceed the proposed FLEC zone 2022 and 2023 recreational ACLs, and when combined with expected commercial harvest, the total harvest in the FLEC zone is projected to exceed the total 2022 and 2023 FLEC zone ACLs. However, as discussed below, these proposed changes in combination with the proposed change to the minimum size limit is projected to reduce recreational landings enough to constrain harvest to the recreational ACL. As previously noted, NMFS expects the changes to the possession limit to reduce recreational harvest in the FLEC zone by approximately 29 percent.

Minimum Size Limits

Amendment 32 would increase the commercial and recreational minimum size limits for Gulf group cobia in the FLEC zone from 33 inches (83.8 cm) to 36 inches (91.4 cm), fork length. The current Gulf zone commercial and recreational minimum size limit is 36 inches (91.4 cm), fork length, and the Councils determined that having a consistent minimum size limit in both the FLEC and Gulf zones would reduce confusion about the regulations in Federal waters and decrease the burden on law enforcement, while also providing benefits to the stock.

Increasing the minimum size limit to 36 inches (91.4 cm), fork length, in the FLEC zone would reduce the harvest rate across both sectors and reduce the total harvest. The increase in the minimum size limit would also increase the likelihood that sexually mature cobia are able to spawn more than once before being harvested, resulting in additional recruitment to the spawning stock over time. As a result of this change to the minimum size limit, NMFS projects that harvest in the FLEC zone would be reduced by approximately 27 percent for the commercial sector, 23 percent for the recreational charter vessel/headboat component, and 34 percent for the recreational private angling component. An increase in the minimum size limit may increase regulatory discards in the FLEC zone in the near-term but the discard mortality rates were estimated in SEDAR 28 to be relatively low (5 percent) when using hook-and-line gear in the commercial sector and all gear types in the recreational sector. The analysis in Amendment 32 indicates that implementing both this increase in the minimum size limit and the changes to the possession limit would reduce landings in the FLEC zone enough to constrain landings to the recreational ACL.

FMP Framework Procedure

Currently, the framework procedure limits the management measures that the South Atlantic Council may independently propose for Gulf group cobia in the FLEC zone to vessel trip limits, closed seasons or areas, or fishing gear restrictions.

Amendment 32 would revise the framework procedures to allow the South Atlantic Council to independently change vessel trip limits, closed seasons or areas, fishing gear restrictions, per person bag and possession limits, size limits, in-season and post-season accountability measures, and specification of ACTs or sector ACTs for Gulf group cobia in the FLEC zone. The Councils decided that providing the South Atlantic Council the authority to make any of these changes through a framework process will allow the South Atlantic Council to respond quickly to new information. The Councils determined this change would result in beneficial biological, socio-economic, and administrative impacts.

Amendment 32 would also clarify language in the CMP FMP framework procedure by removing reference to Atlantic group cobia, which was removed from management by the Councils through Amendment 31 to the CMP FMP (84 FR 4733; February 19, 2019), and change the language referring to the ABC/ACL Control Rule because there is no ABC/ACL Control Rule. Instead, this language should refer to the ABC and ACL/ACT Control Rules.

Proposed Rule for Amendment 32

A proposed rule to implement Amendment 32 has been drafted. In accordance with the Magnuson-Stevens Act, NMFS is evaluating the proposed rule to determine whether it is consistent with the CMP FMP, the Magnuson-Stevens Act, and other applicable laws. If that determination is affirmative, NMFS will publish the proposed rule in the Federal Register for public review and comment.

Consideration of Public Comments

The Gulf Council has submitted Amendment 32 for Secretarial review, approval, and implementation. Comments on Amendment 32 must be received by September 6, 2022. Comments received during the respective comment periods, whether specifically directed to Amendment 32 or the proposed rule will be considered by NMFS in the decision to approve, disapprove, or partially approve Amendment 32. Comments received after the comment periods will not be considered by NMFS in this decision. All comments received by NMFS on the amendment or the proposed rule during their respective comment periods will be addressed in the final rule.

(Authority: 16 U.S.C. 1801 et seq.)

Dated: June 30, 2022.
Jennifer M. Wallace,
Acting Director, Office of Sustainable Fisheries, National Marine Fisheries Service.

[FR Doc. 2022-14380 Filed 7-6-22; 8:45 am]

BILLING CODE 3510-22-P